DEPARTMENT OF THE INTERIOR

Bureau of Land Management

[LLCOS05000.L71220000.PN000.LVTFC2009000.20X]

Notice of Realty Action: Direct Sale of Public Land in Delta County, CO

AGENCY: Bureau of Land Management.

ACTION: Notice of realty action.

SUMMARY: The Bureau of Land Management (BLM) is proposing the noncompetitive (direct) sale of a parcel of public land in Colorado to resolve inadvertent and unauthorized use of public lands. The 6.62-acre parcel is located in Delta County and will be sold to Bud Hawkins and Cindy Hawkins at the appraised fair market value of $3,500. The sale will be subject to the applicable provisions of sections 203 and 209 of the Federal Land Policy and Management Act of 1976 (FLPMA) and BLM land sale regulations.

DATES: Interested parties may submit written comments regarding this direct sale by October 3, 2022.

ADDRESSES: Mail written comments to Jana Moe, Realty Specialist, BLM Uncompahgre Field Office, 2465 S Townsend Road, Montrose, CO 81401 or by email to jpmoe@blm.gov.

FOR FURTHER INFORMATION CONTACT: Jana Moe, Realty Specialist, BLM, Uncompahgre Field Office, telephone: (970) 240-5324; email: jpmoe@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM will consider the direct sale, in accordance with Sections 203 and 209 of FLPMA, of the following public lands:

New Mexico Principal Meridian, Colorado

T. 51 N., R. 9 W.,

Sec. 17, lots 1 and 4.

The area described contains 6.62 acres, according to the official plat of survey on file with the BLM.

There is no known mineral value in the parcel so the mineral estate would also be conveyed in accordance with Section 209 of FLPMA. This sale is in conformance with the BLM Gunnison Gorge National Conservation Area (GGNCA) Record of Decision and Approved Resource Management Plan decision LAND C-5, (pages 2-9) approved in November 2004. The parcel is located within the GGNCA planning area but is not located within the GGNCA boundary. A parcel-specific environmental assessment (EA), document number DOI-BLM-CO-S054-2020-0006 EA, was prepared in connection with this realty action. It can be viewed online at https://eplanning.blm.gov/eplanning-ui/project/2000347/510.

The land is suitable for direct sale under FLPMA, without competition, consistent with 43 CFR 2711.3-3(a)(5), because there is a need to resolve an inadvertent and unauthorized use of public lands, which are encumbered by privately owned improvements.

Pursuant to the requirements of 43 CFR 2711.1-2(d), publication of this notice in the Federal Register will segregate the land from all forms of appropriation under the public land laws, including the mining laws, except for the sale provisions of FLPMA. Until completion of the sale, the BLM will no longer accept land use applications affecting the public land. The segregative effect will terminate upon issuance of a patent, publication in the Federal Register or on a termination of the segregation, or on August 18, 2024 unless extended by the BLM Colorado State Director in accordance with 43 CFR 2711.1-2(d) prior to the termination date.

The patents, if issued, will include the following terms, covenants, conditions, and reservations:

1. A reservation to the United States for ditches and canals constructed by authority of the United States under the Act of August 30, 1890;

2. Valid existing rights issued prior to conveyance;

3. An appropriate indemnification clause protecting the United States from claims arising out of the patentee's use, occupancy, or operations on the patented lands;

4. Additional terms and conditions that the authorized officer deems appropriate.

The EA, appraisal, maps, and environmental site assessment are available for review at the location listed in the ADDRESSES section earlier. Interested parties may submit, in writing, any comments concerning the sale, including notifications of any encumbrances or other claims relating to the parcel (see ADDRESSES).

The BLM Colorado State Director will review adverse comments regarding the parcel and may sustain, vacate, or modify this realty action, in-whole or in-part. In the absence of timely objections, this realty action will become the final determination of the Department of the Interior.

In addition to publication in the Federal Register, the BLM will also publish this notice in the Delta County Independent newspaper, once a week, for 3 consecutive weeks.

Before including your address, phone number, email address, or other personal identifying information in your comments, the BLM will make your entire comment—including your personal identifying information—publicly available at any time. While you can ask us in your comment to withhold your personal identifying information from public review, we cannot guarantee that we will be able to do so.

(Authority: 43 CFR 2711.1-2)

Stephanie Connolly,
Acting BLM Colorado State Director.

[FR Doc. 2022-17757 Filed 8-17-22; 8:45 am]

BILLING CODE 4310-JB-P